FEDERAL EMERGENCY MANAGEMENT AGENCY

[FEMA-3155-EM]

New York; Amendment No. 1 to Notice of an Emergency Declaration

AGENCY: Federal Emergency Management Agency (FEMA).

ACTION: Notice.

SUMMARY: This notice amends the notice of an emergency for the State of New York (FEMA-3155-EM), dated October 11, 2000, and related determinations.

EFFECTIVE DATE: December 27, 2000.

FOR FURTHER INFORMATION CONTACT: Madge Dale, Response and Recovery Directorate, Federal Emergency Management Agency, Washington, DC 20472, (202) 646-3772.

SUPPLEMENTARY INFORMATION: Notice is hereby given that the incident period for this emergency is amended to May 22, 2000 through November 1, 2000. Further, FEMA intends to provide emergency protective measures (Category B), at 75 percent Federal funding for eligible costs incurred by the State government.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program).
James L. Witt,
Director.

[FR Doc. 01-1032 Filed 1-11-01; 8:45 am]

BILLING CODE 6718-02-P